DEPARTMENT OF COMMERCE

International Trade Administration

[A-588-702, A-580-813, A-583-816]

Stainless Steel Butt-Weld Pipe Fittings from Japan, Korea, and Taiwan; Extension of Time Limits for Final Results of Sunset Reviews of Antidumping Duty Orders

AGENCY: Import Administration, International Trade Administration, U.S. Department of Commerce.

EFFECTIVE DATE: May 26, 2005.

INFORMATION CONTACT: Martha Douthit at 202-482-5050, Hilary Sadler at 202-482-4340, Zev Primor at 202-482-4114, or Dana Mermelstein at 202-482-1391. Import Administration, International Trade Administration, U.S. Department of Commerce, 14th Street and Constitution Avenue, NW, Washington, DC 20230.

SUPPLEMENTARY INFORMATION:

Extension of Time Limit for Final Results of Reviews

The Department of Commerce (“the Department”) is extending the time limits for the final results in the sunset reviews of the antidumping duty orders on stainless steel butt-weld pipe fittings from Japan, Korea, and Taiwan. In accordance with section 751(c)(5)(B) of the Tariff Act of 1930, as amended, (“the Act”), the Department may extend the period of time for making its determination by not more than 90 days, if it determines that the review is extraordinarily complicated. As set forth in 751(c)(5)(C)(v) of the Act, the Department may treat a sunset review as extraordinarily complicated, if it is a review of a transition order. A transition order is defined as any antidumping or countervailing duty order which was in effect on January 1, 1995, the date on which the WTO Agreement entered into force with respect to the United States. See section 751(c)(6)(C) of the Act. All of the orders subject to these sunset reviews were issued prior to January 1, 1995, and as such, are transition orders. Specifically, the antidumping duty orders on stainless steel butt-weld pipe fittings from Japan, Korea, and Taiwan were issued on March 15, 1988, February 23, 1993, and June 16, 1993, respectively. Therefore, the Department has determined, pursuant to section 751(c)(5)(C)(v) of the Act, that the sunset reviews of the antidumping duty orders on stainless steel butt-weld pipe fittings from Japan, Korea, and Taiwan are extraordinarily complicated and require additional time for the Department to complete its analyses. The Department's final results of these sunset reviews were scheduled for June 2, 2005. The Department will extend the deadlines in these proceedings and, as a result, intends to issue the final results of the antidumping duty orders on stainless steel butt-weld pipe fittings from Japan, Korea, and Taiwan on August 31, 2005, which is 90 days from the original deadline.

This notice is issued in accordance with sections 751(c)(5)(B) and (C)(v) of the Act.

Dated: May 19, 2005.
Barbara E. Tillman,
Acting Deputy Assistant Secretary for Import Administration.

[FR Doc. E5-2681 Filed 5-25-05; 8:45 am]

BILLING CODE 3510-DS-S